OFFICE OF THE UNITED STATES TRADE REPRESENTATIVE

Revised Fiscal Year 2011 Tariff-Rate Quota Allocations for Refined Sugar

AGENCY: Office of the United States Trade Representative.

ACTION: Notice.

SUMMARY: The Office of the United States Trade Representative (USTR) is providing notice of additional country-by-country allocations of the fiscal year (FY) 2011 in-quota quantity of the tariff-rate quota (TRQ) for imported refined sugar for entry through November 30, 2011.

DATES: Effective Date: October 4, 2011.

ADDRESSES: Inquiries may be mailed or delivered to Ann Heilman-Dahl, Director of Agricultural Affairs, Office of Agricultural Affairs, Office of the United States Trade Representative, 600 17th Street, NW., Washington, DC 20508.

FOR FURTHER INFORMATION CONTACT: Ann Heilman-Dahl, Office of Agricultural Affairs, telephone: 202-395-6127 or facsimile: 202-395-4579.

SUPPLEMENTARY INFORMATION: Pursuant to Additional U.S. Note 5 to chapter 17 of the Harmonized Tariff Schedule of the United States (HTS), the United States maintains a tariff-rate quota for imports of refined sugar.

Section 404(d)(3) of the Uruguay Round Agreements Act (19 U.S.C. 3601(d)(3)) authorizes the President to allocate the in-quota quantity of a TRQ for any agricultural product among supplying countries or customs areas. The President delegated this authority to the USTR under Presidential Proclamation 6763 (60 FR 1007).

On August 5, 2010, the Secretary of Agriculture established the FY 2011 (October 1, 2010—September 30, 2011) refined sugar TRQ at an aggregate quantity of 99,111 MTRV, of which 20,344 MTRV was refined sugar other than specialty sugar. On August 17, 2010, USTR allocated this refined sugar as follows: 10,300 MTRV to Canada; 2,954 MTRV to Mexico; and 7,090 MTRV to be administered on a first-come, first-served basis. On August 2, 2011, the Secretary of Agriculture increased the FY 2011 specialty sugar TRQ by 9,072 MTRV, resulting in a FY 2011 specialty sugar TRQ of 87,839 MTRV and a FY 2011 refined sugar TRQ of 108,183 MTRV.

On September 29, 2011, the Secretary of Agriculture announced an increase in the FY 2011 refined sugar TRQ of 136,078 MTRV, to a total of 244,261 MTRV, none of which is reserved for specialty sugars. This addition to the refined sugar TRQ will open on September 29, 2011, and may be entered until November 30, 2011. This sugar must have a sucrose content, by weight in the dry state, corresponding to a polarimeter reading of 99.5 degrees or more. 25,000 MTRV is being allocated to Canada, increasing Canada's allocation from 10,300 to 35,300 MTRV. The remaining 111,078 MTRV of the increased in-quota quantity may be supplied by any country on a first-come, first-served basis, subject to any other provision of law, which raises the first-come, first-served in-quota quantity from 7,090 to 118,168 MTRV. The certificate of quota eligibility is required for sugar entering under the TRQ for refined sugar that is the product of a country that has been allocated a share of the tariff-rate quota for refined sugar.

* Conversion factor: 1 metric ton = 1.10231125 short tons.

Ronald Kirk,
United States Trade Representative.

[FR Doc. 2011-25555 Filed 10-3-11; 8:45 am]

BILLING CODE 3190-W1-P